DEPARTMENT OF LABOR

Employment and Training Administration

[TA-W-41,597]

Waukesha Engine Division, Waukesha, WI; Notice of Revised Determination on Reconsideration

By application of August 27, 2002, the International Association of Machinists and Aerospace Workers, Local Lodge 1377, requested administrative reconsideration regarding the Department's Negative Determination Regarding Eligibility to Apply for Worker Adjustment Assistance, applicable to the workers of the subject firm.

The initial investigation resulted in a negative determination issued on July 19, 2002, based on the finding that imports of internal combustion gaseous fueled engines and parts did not contribute importantly to worker separations at the Lewisburg plant. The denial notice was published in the Federal Register on August 7, 2002 (67 FR 51295).

To support the request for reconsideration, the union supplied additional information to supplement that which was gathered during the initial investigation. Upon further review and contact with the company, it was revealed that, in contrast to the initial finding that the subject facility exclusively serviced the export market, it became apparent that there was a substantial domestic customer base.

Further, the company provided import data not previously disclosed regarding imports. An examination of this data revealed that the company increased its reliance on imports of internal combustion gaseous fueled engines and parts, contributing to layoffs at the subject facility.

Conclusion

After careful review of the additional facts obtained on reconsideration, I conclude that increased imports of articles like or directly competitive with those produced at Waukesha Engine Division, Waukesha, Wisconsin, contributed importantly to the declines in sales or production and to the total or partial separation of workers at the subject firm. In accordance with the provisions of the Act, I make the following certification:

All workers of Waukesha Engine Division, Waukesha, Wisconsin, who became totally or partially separated from employment on or after May 15, 2001 through two years from the date of this certification, are eligible to apply for adjustment assistance under section 223 of the Trade Act of 1974.

Signed in Washington, DC, this 6th day of May 2003.
Elliott S. Kushner,
Certifying Officer, Division of Trade Adjustment Assistance.

[FR Doc. 03-12421 Filed 5-16-03; 8:45 am]

BILLING CODE 4510-30-P